DEPARTMENT OF COMMERCE

[Docket Number USBC-2018-0017]

Request for Comments on the Cross-Agency Priority Goal: Leveraging Data as a Strategic Asset: Phase 2

AGENCY: Department of Commerce.

ACTION: Notice and Request for Comments.

SUMMARY: In March 2018, President Trump launched the President's Management Agenda (PMA). It lays out a long-term vision for modernizing the Federal Government in key areas that will improve the ability of agencies to deliver mission outcomes, provide excellent service, and effectively steward taxpayer dollars on behalf of the American people. The PMA established a Cross-Agency Priority (CAP) goal of Leveraging Data as a Strategic Asset with an intended purpose of guiding development of a comprehensive long-term Federal Data Strategy to grow the economy, increase the effectiveness of the Federal Government, facilitate oversight, and promote transparency (https://www.performance.gov/CAP/CAP_goal_2.html). This notice seeks comment on practices for Federal agencies to adopt in order to achieve this CAP goal.

A subsequent Request for Comments to be published in January 2019 will seek input on a year-one action plan for implementing the Federal Data Strategy.

DATES: Comments on this notice must be received by November 16, 2018.

ADDRESSES: Submit comments through either the Federal eRulemaking Portal or the Federal Data Strategy website at https://strategy.data.gov. Include the Docket ID and the phrase “Leveraging Data as a Strategic Asset Phase 2 Comments” at the beginning of your comments. Also indicate which questions described in the SUPPLEMENTARY INFORMATION of this notice are addressed in your comments. Comments will not be accepted by fax or paper delivery.

• Federal eRulemaking Portal: Go to www.regulations.gov to submit your comments electronically under Docket ID USBC-2018-0017. Information on using regulations.gov, including instructions for accessing documents, submitting comments, and viewing the docket, is available on the site under “How to Use This Site.”

• Privacy Note: Comments and information submitted in response to this notice may be made available to the public through relevant websites. Therefore, commenters should only include in their comments information that they wish to make publicly available on the internet. Note that responses to this public comment request containing any routine notice about the confidentiality of the communication will be treated as public comments that may be made available to the public.

FOR FURTHER INFORMATION CONTACT: William Hawk, Economist, U.S. Census Bureau, william.r.hawk@census.gov or 301-763-0654.

SUPPLEMENTARY INFORMATION:

Purpose

The Under Secretary for Economic Affairs, performing the nonexclusive duties and functions of the Deputy Secretary of the U.S. Department of Commerce, along with the Federal Chief Information Officer, the Chief Statistician of the United States, and executives from the U.S. Small Business Administration and the White House Office of Science and Technology Policy, is charged with developing a comprehensive Federal Data Strategy under the President's Management Agenda CAP goal of Leveraging Data as a Strategic Asset. Under this goal, the Federal Government should leverage program, statistical, and mission-support data as a strategic asset to grow the economy, increase the effectiveness of the Federal Government, facilitate oversight, and promote transparency. The Federal Government's role in collecting and disseminating data is rooted in the U.S. Constitution. Advances in technology have transformed the production and use of data across society, business, and government. The Federal Government needs a robust, integrated approach to creating, acquiring, using, and disseminating data to deliver on mission, serve customers, and steward resources while respecting privacy and confidentiality.

The Federal Data Strategy is currently under development and, by the spring of 2019, will set forth principles, practices, and a year-one action plan to deliver a more consistent approach to federal data stewardship, access, and use. The principles are a framework for agencies, while the practices are actionable, yet aspirational, goals for a 5- to 10-year time horizon, and the action steps will be strategically chosen activities for agencies to implement the practices in any given year. The year-one action plan, with initial action steps, will begin in 2019 and will guide agencies in their data stewardship and information management responsibilities.

Stakeholder engagement is critical to developing a viable and sustainable Federal Data Strategy. This Federal Register Notice is the second of three notices and requests for comment to seek public input on the development of the strategy. The Department of Commerce published the first of these notices in the Federal Register (83 FR 30113) on June 27, 2018. The notice included a set of ten draft principles for a comprehensive data strategy and asked the public to “review and provide feedback on their clarity, appropriateness, completeness, and potential duplications.” Comments were also requested on practices related to key aspects of the Federal Data Strategy, on mechanisms for stakeholder engagement, and on use cases, or real-world examples, that leverage Federal Government data for the benefit of the public. Comments were also submitted through the Federal Data Strategy website. A total of 237 comments were received, with almost 100 comments related to the draft principles. Based on comments received, the data strategy team revised the principles, which are available at https://strategy.data.gov.

This request for comments solicits stakeholder feedback on the next products in the development of the federal data strategy: draft practices for the federal data strategy. Feedback will also be accepted through the Federal Data Strategy website at https://strategy.data.gov.

Request for Comments

The draft practices are based on the work of the four Federal Data Strategy working groups, each centered on a specific strategic area: Enterprise Data Governance; Decision Making and Accountability; Access, Use, and Augmentation; and Commercialization, Innovation, and Public Use. The working groups are teams of approximately 10 Federal Data Fellows, selected for their multidisciplinary experience and expertise in federal data.

The working groups conducted research on practices, reviewed relevant Federal policies, such as OMB Circular A-130, Managing Information as a Strategic Resource, and incorporated public and agency comments, including information about use cases provided in response to the June 27 Federal Register Notice (83 FR 30113). The work of the separate groups was synthesized into 47 draft practices, which are available at https://strategy.data.gov.

The Federal Data Strategy will apply to all Executive Branch agencies with responsibilities for information management and will guide them in data collection and stewardship. The strategy will be a point of guidance for actions across the data lifecycle and will inform and guide actions for the full spectrum of data assets, including:

• Program data: Data generated in carrying out the administration of a government program or mission, such as processing benefit applications, tracking services received, monitoring the weather, or mapping oceans. These data can relate to individuals, businesses, and other institutions, as well as the environment and scientific phenomena.

• Statistical data: Data used to describe, estimate, or analyze the characteristics and activities of groups, without identifying the individuals or organizations that constitute such groups, such as for research and evaluation.

• Mission-support data: Program data focused on internal government operations, such as government spending, performance, or personnel data, that are common across government.

The practices are designed to inform agency actions on a regular basis, to be continually relevant, and to be sufficiently general so as to broadly apply at all federal agencies and across all missions. The practices represent aspirational goals that, when fully realized, will enable agencies, practitioners, and policymakers to improve the government's approach to data stewardship and leverage data to create value.

The draft practices are grouped according to five broad objectives that begin to operationalize five corresponding objectives.

• Govern and Manage Data as a Strategic Asset

• Protect and Secure Data

• Promote Efficient Use of Data Assets

• Build a Culture that Values Data as an Asset

• Honor Stakeholder Input and Leverage Partners

In addition to applying across government, the strategy and its practices apply across the data lifecycle, which can be depicted in six stages:

1. Creation, collection, or acquisition;

2. processing;

3. access;

4. use;

5. dissemination; and

6. storage and disposition.

See https://strategy.data.gov for more information about how the draft practices pertain to each of those stages.

The draft practices will be revised and further developed in response to public and agency comments. Specifically, comments are requested on the following:

1. What framework(s) for organizing or classifying the practices would be most useful to Federal practitioners and other key stakeholders? For example, should they be classified according to whether they pertain to data creation, collection, or acquisition; processing; access; use; dissemination; and storage and disposition?

2. List and describe any additional practices relevant to data creation, collection, acquisition, processing, access, use, dissemination, storage, and disposition that are not included in the draft practices.

3. Identify any draft practices that should be omitted and explain why.

4. Provide any necessary edits to the practices to ensure that they effectively identify objectives, outcomes, or goals and are helpful to a practitioners and data policymakers.

5. Please provide examples of how Federal, state, local, or tribal government agencies have successfully implemented a particular practice.

6. Please provide specific action steps that should be associated with a particular practice.

For guidance in proposing action steps, use the following as examples of specific practices and associated action steps. These examples are provided for guidance only.

• Practice: Prioritize Data Security

Example Action Steps

1. Leverage existing standards for comprehensive and high quality data management.

2. Define, implement, and maintain formal expectations throughout government for data oversight and transparency.

• Practice: Connect Federal Spending to Outcomes

Example Action Steps

1. Publish interactive reports with spending, performance, and mission-support data that enable the public to interact with the data and create customizable tables and report. These interactive charts and graphics should be embedded in Federal websites such as USAspending.gov and performance.gov.

2. Standardize reporting data for federal grants to help make the data more accessible and useful.

Guidance for Submitting Documents

This guidance for submitting documents is offered to facilitate the analysis and full consideration of the comments. If responding on behalf of an organization or agency, please include the name and address of your institution or affiliation, and your name, title, email addresses, and telephone number. No specific information about you is required, other than that necessary for self-identification, for full consideration of the comment.

Comments should be informative for the Federal Data Strategy. Comments on issues not related to the strategy will not be considered.

Please submit comments through the Federal Register portal at www.regulations.gov or through the Federal Data Strategy website at https://strategy.data.gov. Please submit your comment once using your preferred feedback platform.

Please specify the number of the question to which your comment applies. If possible, structure your comments on specific practices so that they refer to the number of the relevant practice. If you have multiple comments on one practice, please organize them together by practice number.

If possible, provide comments in a Microsoft Word or plain text file and avoid using footnotes, end notes, images, graphics, or tables. If you refer to reference material (documents, websites, research), please quote or paraphrase the specific content from referenced material.

Dated: October 10, 2018.
Karen Dunn Kelley,
Under Secretary for Economic Affairs, Performing the Nonexclusive Duties and Functions of the Deputy Secretary of Commerce, Department of Commerce.

[FR Doc. 2018-22490 Filed 10-16-18; 8:45 am]

BILLING CODE 3510-07-P